DEPARTMENT OF AGRICULTURE

Forest Service

Tonto, Prescott, and Coconino National Forests

AGENCY: Forest Service, USDA.

ACTION: Notice of intent to developing a Comprehensive River Management Plan for the Verde Wild and Scenic River.

SUMMARY: The Tonto, Prescott, and Coconino National Forests are initiating the development of a Comprehensive River Management Plan for the Verde Wild and Scenic River. A portion of the Verde River was adopted into the Wild and Scenic River System by act of Congress in the Arizona Wilderness Act (Pub. L. 98-406) on August 28, 1984.

The Verde Wild and Scenic River is a 40.4 mile section (14.5 miles Scenic—upper section and 25.9 miles Wild—lower section) of the Verde River beginning near an area known as Beasley Flat (T.13N., R.5E., S.26) and ending at the mouth of Red Creek (T.11N., R.6E., S. 11 Gila and Salt River Base Meridian). The land area comprising the river includes reserved public domain inside a one-quarter mile wide corridor on both sides of the centerline of the Verde River between the end points above.

DATES: Comments in response to this Notice of Intent concerning the scope of the analysis should be received in writing by December 28, 2001, at the address listed below.

ADDRESSES: Send written comments to USDA Forest Service, Tonto National Forest, ATTN: Carl Taylor, 2324 E. McDowell Road, Phoenix, Arizona 85006.

Responsible Official: The Forest Supervisors for the Coconino, Prescott, and Tonto National Forests will be the responsible officials and will decide on the elements of a Comprehensive River Management Plan for the Verde Wild and Scenic River.

FOR FURTHER INFORMATION CONTACT: Carl Taylor, Tonto National Forest, 2324 E. McDowell Road, Phoenix, Arizona 85006, (602) 225-5230.

SUPPLEMENTARY INFORMATION: The Verde Wild and Scenic River is part of a much larger complex watershed. The Wild and Scenic River segment itself is in the lower portions of the watershed and can be characterized as a rich riparian and aquatic zone surrounded by Upper Sonoran and Sonoran desert vegetation—desert shrub featuring pinyon and juniper interspersed with a few grasslands. I has many tributaries exhibiting very diverse characteristics and creating many broadly diverse habitats.

The outstandingly remarkable values for the Verde Wild and Scenic River are scenic, fish and wildlife, and historic and cultural. Additionally, although not classified as outstandingly remarkable values, the river also has geologic and recreational values. The Comprehensive River Management Plan will focus on protecting the river's free-flowing conditions and water quality in addition to its outstanding remarkable values.

The planning process involves a number of steps over the next 30 months:

A. Publish Proposed Action for public review by the end of January 2002.

B. Release Draft Comprehensive River Management Plan and environmental document for public review by the end of June 2003.

C. Publish Final Comprehensive River Management Plan by March 2004. In addition to these planning steps, the Forest Service will also be providing 6-month progress reports to all who express an interest in being kept informed.

Comments received in response to this solicitation, including names and addresses of those who comment, will be considered part of the public record on this proposed action and will be available for public inspection. Comments submitted anonymously will be accepted and considered. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets.

The Forest Service will inform the requester of the agency's decision regarding the request for confidentiality, and where the request is denied, the agency will return the submission and notify the requester that the comments may be resubmitted with or without name and address.

Dated: October 24, 2001.
Eleanor S. Towns,
Regional Forester.

[FR Doc. 01-27211 Filed 10-29-01; 8:45 am]

BILLING CODE 3410-11-M